DEPARTMENT OF EDUCATION

National Advisory Committee on Institutional Quality and Integrity Meeting; Update and Correction

AGENCY: National Advisory Committee on Institutional Quality and Integrity (NACIQI), U.S. Department of Education.

ACTION: Announcement of the time and location of the NACIQI meeting; and a correction to the agenda.

SUMMARY: This meeting notice is an update to the previous notice published in the Federal Register (176 FR 54774) on September 11, 2015, and sets forth the time and location for the December 16, 17, and 18, 2015 NACIQI meeting. This notice also provides a correction to the current and requested scopes of recognition for the Western Association of Schools and Colleges, Accrediting Commission for Community Colleges and Junior Colleges (WASC ACCJC), and clarifies the scope of review to be conducted at the meeting for the Northwest Commission on Colleges and Universities (MWCCU) and WASC ACCJC. Further, this notice adds an item to the agenda. The notice of this meeting is required under Section 10(a)(2) of the Federal Advisory Committee Act (FACA) and Section 114(d)(1)(B) of the Higher Education Act of 1965 (HEA), as amended.

DATES: The NACIQI meeting will be held on December 16, 17, and 18, 2015, from 8:00 a.m. to 5:30 p.m., at the Hilton Alexandria Old Town, 1767 King Street, Alexandria, VA 22314.

FOR FURTHER INFORMATION CONTACT: Jennifer Hong, Executive Director/Designated Federal Official, NACIQI, U.S. Department of Education, 1990 K Street NW., Room 8073, Washington, DC 20006-8129, telephone: (202) 502-7696; fax: (202) 502-7874, or email: Jennifer.Hong@ed.gov.

SUPPLEMENTARY INFORMATION:

Meeting Agenda Correction: A correction to current and requested scopes of recognition for the Western Association of Schools and Colleges, Accrediting Commission for Community and Junior Colleges (WASC ACCJC); clarification regarding the scope of review at the meeting for the Northwest Commission on Colleges and Universities (NWCCU) and WASC ACCJC; and addition of an agenda item.

Below is the requested and current scopes of recognition for WASC ACCJC, scheduled for review during the December 2015 meeting:

Compliance Report

Current Scope of Recognition: The accreditation and preaccreditation (“Candidate for Accreditation”) of community and other colleges with a primarily pre-baccalaureate mission located in California, Hawaii, the United States territories of Guam and American Samoa, the Republic of Palau, the Federated States of Micronesia, the Commonwealth of the Northern Mariana Islands, and the Republic of the Marshall Islands, which offer certificates, associate degrees, and the first baccalaureate degree by means of a substantive change review offered by institutions that are already accredited by the agency, and such programs offered via distance education and correspondence education at these colleges. This recognition also extends to the Committee on Substantive Change of the Commission, for decisions on substantive changes, and the Appeals Panel.

Requested Scope of Recognition: The accreditation and preaccreditation (“Candidate for Accreditation”) of community and other colleges in California, Hawaii, the United States territories of Guam and American Samoa, the Republic of Palau, the Federated States of Micronesia, the Commonwealth of the Northern Marianas, and the Republic of the Marshall Islands, which have as a primary mission the granting of associate degrees, but which may also award certificates and other credentials, including bachelor's degrees, where the provision of such credentials is within the institution's mission and, if applicable, is authorized by their governmental authorities, and the accreditation of such programs offered via distance education and correspondence education at these colleges. This recognition also extends to the Committee on Substantive Change of the Commission, for decisions on substantive changes, and the Appeals Panel.

Clarification Regarding Scope of Review

Decisions letters issued in January 2014 by the senior Department official on recognition matters are posted on the Department's Web site at: https://opeweb.ed.gov/aslweb/index.cfm.

NWCCU and WASC ACCJC timely appealed to the Secretary from several of the findings contained in the senior Department official's January 2014 decision letters to those agencies.

1. NWCCU (Compliance Report)

The agency appealed five of the ten findings outlined in the senior Department official's January 2014 decision letter.

The agency prevailed on appeal on three of the five issues. As a consequence of the appeal, only the following five remaining findings will be considered at the December 2015 meeting for NWCCU: 34 CFR 602.15(a)(5); 602.16(a)(1)(ix); 602.20(b); 602.23(c); and 602.26(d). The Secretary's December 2014 appeal decision may be found here: http://oha.ed.gov/secretaryindex.html

2. WASC ACCJC (Compliance Report)

The agency appealed two of the 15 findings outlined in the senior Department official's January 2014 decision letter. The appeal remains pending. Because those two findings remain on appeal, only the other 13 findings addressed in the senior Department official's decision letter will be considered at the December 2015 meeting for WASC ACCJC: 34 CFR 602.12(b); 602.16(a)(1)(i); 602.16(a)(1)(ii); 602.16(a)(1)(iii); 602.17(a); 602.17(f); 602.18(e); 602.19(b); 602.20(a); 602.20(b); 602.21(c); 602.25(c); and 602.26(b).

Public comments (written and oral) for NWCCU and WASC ACCJC must be confined to the criteria for recognition listed above.

3. Scope of Review at the December 2015 Meeting for Agencies Other Than NWCCU and WASC ACCJC

Public comments (written and oral) for all other agencies listed on the December agenda for consideration of compliance reports must relate to issues identified in the senior Department official's letter that requested the report.

Public comments (written and oral) for agencies listed on the December agenda for consideration for initial or renewal of recognition must relate to the agency's compliance with the Criteria for the Recognition of Accrediting Agencies [34 CFR 602], the Criteria and Procedures for Recognition of State Agencies for the Approval of Public Postsecondary Vocational Education [34 CFR 603], and the Criteria and Procedures for Recognition of State Agencies for Approval of Nurse Education, as appropriate.

Addition of Agenda Item: On Wednesday, December 16, 2015, the NACIQI will receive a briefing to continue their discussion from the June 25-26, 2015 meeting regarding how to frame the NACIQI's policy agenda to inform the agency recognition process and to develop broader perspectives about how accrediting agencies consider data about student outcomes. The briefing and attendant discussion will commence prior to the review of agencies on the agenda, and will resume after the NACIQI has completed its review of agencies.

Access to Records of the Meeting: The Department will post the official report of the meeting on the NACIQI Web site 90 days after the meeting. Pursuant to the FACA, the public may also inspect the materials at 1990 K Street NW., Washington, DC, by emailing aslrecordsmanager@ed.gov or by calling (202) 219-7067 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Delegation of Authority: The Secretary of Education has delegated authority to Jamienne S. Studley, Deputy Under Secretary, to perform the functions and duties of the Assistant Secretary for Postsecondary Education.

Authority: Section 114 of the HEA of 1965, as amended, 20 U.S.C. 1011c.

Jamienne S. Studley,
Deputy Under Secretary.

[FR Doc. 2015-28746 Filed 11-10-15; 8:45 am]

BILLING CODE 4000-01-P